DEPARTMENT OF TRANSPORTATION

Office of the Secretary

Applications of Business Jet Services, Ltd. for Certificate Authority

AGENCY: Department of Transportation.

ACTION: Notice of Order to Show Cause (Order 2006-6-13), Dockets OST-2006-23694 and OST-2006-23695.

SUMMARY: The Department of Transportation is directing all interested persons to show cause why it should not issue orders finding Business Jet Services, Ltd., fit, willing, and able, and awarding it certificates of public convenience and necessity to engage in interstate and foreign charter air transportation of persons, property, and mail.

DATES: Persons wishing to file objections should do so no later than June 26, 2006.

ADDRESSES: Objections and answers to objections should be filed in Dockets OST-2006-23694 and OST-2006-23695 and addressed to U.S. Department of Transportation, Docket Operations, (M-30, Room PL-401), 400 Seventh Street, SW., Washington, DC 20590, and should be served upon the parties listed in Attachment A to the order.

FOR FURTHER INFORMATION CONTACT: Ms. Lauralyn J. Remo, Air Carrier Fitness Division (X-56, Room 6401), U.S. Department of Transportation, 400 Seventh Street, SW., Washington, DC 20590, (202) 366-9721.

Dated: June 12, 2006.
Michael W. Reynolds,
Acting Assistant Secretary for Aviation and International Affairs.

[FR Doc. E6-9456 Filed 6-15-06; 8:45 am]

BILLING CODE 4910-9X-P